DEPARTMENT OF COMMERCE

International Trade Administration

[A-570-848]

Freshwater Crawfish Tail Meat From the People's Republic of China: Initiation of Antidumping Duty New Shipper Review

AGENCY: Enforcement and Compliance, International Trade Administration, Department of Commerce.

SUMMARY: The Department of Commerce (the Department) is initiating a new shipper review (NSR) of the antidumping duty order on freshwater crawfish tail meat from the People's Republic of China (PRC) with respect to Hubei Qianjiang Huashan Aquatic Food and Product Co., Ltd. (Hubei Qianjiang).

DATES: Effective Date: October 21, 2015.

FOR FURTHER INFORMATION CONTACT: Hermes Pinilla, AD/CVD Operations Office I, Enforcement and Compliance, International Trade Administration, U.S. Department of Commerce, 14th Street and Constitution Avenue NW., Washington, DC 20230; Telephone: (202) 482-3477.

SUPPLEMENTARY INFORMATION:

Background

The antidumping duty order on freshwater crawfish tail meat from the PRC published in the Federal Register on September 15, 1997.¹ Pursuant to section 751(a)(2)(B)(i) of the Tariff Act of 1930, as amended (the Act), we received a timely request for a NSR of the order from Hubei Qianjiang.² Hubei Qianjiang certified that it is both the producer and exporter of the subject merchandise upon which the request was based.³

¹ See Notice of Amendment to Final Determination of Sales at Less Than Fair Value and Antidumping Duty Order: Freshwater Crawfish Tail Meat from the People's Republic of China, 62 FR 48218 (September 15, 1997) (Crawfish Order).

² See Hubei Qianjiang's new shipper request dated September 2, 2015.

³ See Hubei Qianjiang's new shipper request at Attachment 1.

Pursuant to section 751(a)(2)(B)(i)(I) of the Act and 19 CFR 351.214(b)(2)(i), Hubei Qianjiang certified that it did not export subject merchandise to the United States during the period of investigation (POI).⁴ In addition, pursuant to section 751(a)(2)(B)(i)(II) of the Act and 19 CFR 351.214(b)(2)(iii)(A), Hubei Qianjiang certified that, since the initiation of the investigation, it has never been affiliated with any exporter or producer who exported subject merchandise to the United States during the POI, including those respondents not individually examined during the POI.⁵ As required by 19 CFR 351.214(b)(2)(iii)(B), Hubei Qianjiang also certified that its export activities were not controlled by the government of the PRC.⁶

⁴ Id.

⁵ Id.

⁶ Id.

In addition to the certifications described above, pursuant to 19 CFR 351.214(b)(2), Hubei Qianjiang submitted documentation establishing the following: (1) The date on which it first shipped subject merchandise for export to the United States; (2) the volume of its first shipment; and (3) the date of its first sale to an unaffiliated customer in the United States.⁷

⁷ See Hubei Qianjiang's new shipper request at Attachments 1 and 2.

Period of Review

The period of review (POR) for this NSR is September 1, 2014, through August 31, 2015.

Initiation of New Shipper Review

Pursuant to section 751(a)(2)(B) of the Act and 19 CFR 351.214(d)(1), the Department finds that the request from Hubei Qianjiang meets the threshold requirements for initiation of a NSR for shipments of freshwater crawfish tail meat from the PRC produced and exported by Hubei Qianjiang.⁸

⁸ See the memorandum to the file entitled “Freshwater crawfish tail meat from the People's Republic of China: Initiation Checklist for Antidumping Duty New Shipper Review of Hubei Qianjiang Huashan Aquatic Food and Product Co., Ltd.” dated concurrently with this notice.

Unless extended, the Department intends to issue the preliminary results of this NSR no later than 180 days from the date of initiation and final results of the review no later than 90 days after the date the preliminary results are issued.⁹ It is the Department's usual practice, in cases involving non-market economy countries, to require that a company seeking to establish eligibility for an antidumping duty rate separate from the country-wide rate provide evidence of de jure and de facto absence of government control over the company's export activities. Accordingly, we will issue a questionnaire to Hubei Qianjiang which will include a section requesting information concerning its eligibility for a separate rate. The NSR of Hubei Qianjiang will be rescinded if the Department determines that Hubei Qianjiang has not demonstrated that it is eligible for a separate rate.

⁹ See section 751(a)(2)(B)(iv) of the Act.

We will instruct U.S. Customs and Border Protection to allow, at the option of the importer, the posting, until the completion of the review, of a bond or security in lieu of a cash deposit for each entry of the subject merchandise from Hubei Qianjiang in accordance with section 751(a)(2)(B)(iii) of the Act and 19 CFR 351.214(e). Because Hubei Qianjiang certified that it produced and exported subject merchandise, the sale of which is the basis for the request for a NSR, we will apply the bonding privilege to Hubei Qianjiang only for subject merchandise which was produced and exported by Hubei Qianjiang.

To assist in its analysis of the bona fides of Hubei Qianjiang's sales, upon initiation of this NSR, the Department will require Hubei Qianjiang to submit on an ongoing basis complete transaction information concerning any sales of subject merchandise to the United States that were made subsequent to the POR.

Interested parties requiring access to proprietary information in the NSR should submit applications for disclosure under administrative protective order in accordance with 19 CFR 351.305 and 351.306.

This initiation and notice are published in accordance with section 751(a)(2)(B) of the Act and 19 CFR 351.214 and 351.221(c)(1)(i).

Dated: October 15, 2015.
Christian Marsh,
Deputy Assistant Secretary for Antidumping and Countervailing Duty Operations.

[FR Doc. 2015-26763 Filed 10-20-15; 8:45 am]

BILLING CODE 3510-DS-P